DEPARTMENT OF DEFENSE

Department of the Army

[Docket ID USA-2014-0027]

Privacy Act of 1974; System of Records

AGENCY: Department of the Army, DoD.

ACTION: Notice to amend two Systems of Records.

SUMMARY: The Department of the Army proposes to amend two systems of records notices, A0027-10cDAJA, Witness Appearance Files and A0027-60b DAJA, Patent, Copyright, and Data License Proffers, Infringement Claims, and Litigation Files, in its inventory of record systems subject to the Privacy Act of 1974, as amended. These systems locate and provide witnesses to U.S. attorneys conducting trials on behalf of the Department of the Army; and maintain evidence and record of claims and litigation involving Department of the Army concerning patents, trademarks, copyrights, and data; to maintain evidence and record of Department of the Army attempts to use copyrighted material and to receive the copyright owner's permission for such use; to maintain record and evidence of patent license offers received and investigations and reports pursuant thereto; and to maintain record and evidence of investigations of proposed legislation or bills for private relief.

DATES: Comments will be accepted on or before August 13, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Office Web site at http://dpclo.defense.gov/.

The proposed changes to the record systems being amended are set forth in this notice. The proposed amendments are not within the purview of subsection (r) of the Privacy Act of 1974 (5 U.S.C. 552a), as amended, which requires the submission of a new or altered system report.

Dated: July 9, 2014.
Aaron Siegel,
Alternate OSD Federal Register Liaison Officer, Department of Defense.

A0027-10cDAJA

System name:

Witness Appearance Files (February 1, 1996, 61 FR 3680)

Changes:

Change System ID to read “A0027-10c DAJA”.

* * * * *

System location:

Delete entry and replace with “Office of the Judge Advocate General, U.S. Army Litigation Division, 9275 Gunston Road, Building 1450, Fort Belvoir, VA 22060-5546.”

Categories of individuals covered by the system:

Delete entry and replace with “Present and former military personnel and government civilian employees requested to appear as witnesses before civil courts, administrative tribunals, and regulatory bodies.”

* * * * *

Authority for maintenance of the system:

Delete entry and replace with “5 U.S.C. 301, Departmental Regulations; and AR 27-10, Military Justice.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

Information may also be disclosed to law students participating in a volunteer legal support program approved by the Judge Advocate General of the Army.

The DoD Blanket Routine Uses set forth at the beginning of the Army's compilation of systems of records notices may apply to this system.”

* * * * *

Storage:

Delete entry and replace with “Electronic storage media and paper records.”

* * * * *

System manager(s) and address:

Delete entry and replace with “Office of the Judge Advocate General, Department of the Army, 9275 Gunston Road, Building 1450, Fort Belvoir, VA 22060-5546.”

Notification procedure:

Delete entry and replace with “Individuals seeking to determine whether information about themselves is contained in this system should address written inquiries to the Chief, U.S. Army Litigation Division, 9275 Gunston Road, Building 1450, Fort Belvoir, VA 22060-5546.

Individual should provide his/her full name, current address and telephone number, and any other personal identifying data that will assist in locating the record.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Chief, U.S. Army Litigation Division, 9275 Gunston Road, Building 1450, Fort Belvoir, VA 22060-5546.

Individual should provide his/her full name, current address and telephone number, and any other personal identifying data that will assist in locating the record.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0027-60b DAJA

System name:

Patent, Copyright, and Data License Proffers, Infringement Claims, and Litigation Files (October 1, 2008, 73 FR 57084)

Changes:

* * * * *

System location:

Delete entry and replace with “Office of the Judge Advocate General, Department of the Army, Intellectual Property Office, Regulatory Law and Intellectual Property Division, 9275 Gunston Road, Building 1450, Fort Belvoir, VA 22060-5546.

Segments of this system may exist at the Office, Chief of Engineers, Headquarters, U.S. Army Materiel Command, and/or its major subordinate field commands.”

* * * * *

System manager(s) and address:

Delete entry and replace with “The Judge Advocate General, Headquarters, Department of the Army, 9275 Gunston Road, Building 1450, Fort Belvoir, VA 22060-5546.”

Notification procedure:

Delete entry and replace with “Individuals seeking to determine whether information about themselves is contained in this system should address written inquiries to the Judge Advocate General, Headquarters, Department of the Army, 1777 North Kent Street, Arlington, VA 22209-2194.

Individual should provide the full name, current address and telephone number, case number that appeared on documentation, any other information that will assist in locating pertinent records, and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).' ”

Record access procedures:

Delete entry and replace with “Individuals seeking access to information about themselves contained in this system should address written inquiries to The Judge Advocate General, Headquarters, Department of the Army, 9275 Gunston Road, Building 1450, Fort Belvoir, VA 22060-5546.

Individual should provide the full name, current address, telephone number, and case number that appeared on documentation, any other information that will assist in locating pertinent records, and signature.

In addition, the requester must provide a notarized statement or an unsworn declaration made in accordance with 28 U.S.C. 1746, in the following format:

If executed outside the United States: `I declare (or certify, verify, or state) under penalty of perjury under the laws of the United States of America that the foregoing is true and correct. Executed on (date). (Signature).’

If executed within the United States, its territories, possessions, or commonwealths: `I declare (or certify, verify, or state) under penalty of perjury that the foregoing is true and correct. Executed on (date). (Signature).' ”

* * * * *

[FR Doc. 2014-16393 Filed 7-11-14; 8:45 am]

BILLING CODE 5001-06-P